DEPARTMENT OF ENERGY

Federal Energy Regulatory Commission

[Docket No. ER06-18-000]

Midwest Independent Transmission System Operator, Inc.; Second Supplemental Notice of Technical Conference

April 14, 2006.

As announced in the Notices of Technical Conference issued on March 17, 2006 and April 6, 2006, the Commission will hold a technical conference on April 21, 2006 in the Commission Meeting Room of the Federal Energy Regulatory Commission, 888 First Street, NE., Washington, DC, regarding the Midwest Independent Transmission System Operator Inc.'s (Midwest ISO) proposed cost allocation policy, as it pertains to the degree of regional cost sharing for reliability projects at 345 kV and above, pursuant to the Commission Order issued on February 3, 2006.¹

¹ Midwest Independent Transmission System Operator, Inc., 114 FERC ¶ 61,106 (2006).

The technical conference will begin at 1 p.m. (EDT) and conclude at approximately 5:15 p.m. Members and staff of the Federal Energy Regulatory Commission are expected to participate. The conference will be open for the public to attend and advanced registration is not required.

This second supplemental notice provides additional information regarding the panelists who will speak at the technical conference.

The conference will be transcribed. A transcript of the conference will be immediately available from Ace Reporting Company ((202) 347-3700 or (800) 336-6646) for a fee. It will be available for the public on the Commission's eLibrary system seven (7) calendar days after FERC receives the transcript. Additionally, Capitol Connection offers the opportunity for remote listening and viewing of the conference. It is available for a fee, live over the Internet, by phone or via satellite. Persons interested in receiving the broadcast or who need information on making arrangements should contact David Reininger or Julia Morelli at the Capitol Connection ((703) 993-3100) for information about this service as soon as possible or visit the Capitol Connection Web site at http://www.capitolconnection.org and click on “FERC.”

FERC conferences are accessible under section 508 of the Rehabilitation Act of 1973. For accessibility accommodations please send an e-mail to accessibility@ferc.gov or call toll free 866-208-3372 (voice) or 202-208-1659 (TTY), or send a FAX to 202-208-2106 with the required accommodations.

For more information about the conference, please contact either Patrick Clarey at (317) 249-5937 or at patrick.clarey@ferc.gov or Eli Massey at (202) 502-8494 or at eli.massey@ferc.gov.

Magalie R. Salas,
Secretary.

[FR Doc. E6-6163 Filed 4-24-06; 8:45 am]

BILLING CODE 6717-01-P